DEPARTMENT OF TRANSPORTATION

Pipeline and Hazardous Materials Safety Administration

[Docket No.: PHMSA-2019-0098]

Hazardous Materials: Lithium Battery Air Safety Advisory Committee; Notice of Public Meeting; Correction

AGENCY: Pipeline and Hazardous Materials Safety Administration (PHMSA), U.S. Department of Transportation (DOT).

ACTION: Notice of public meeting; correction.

SUMMARY: PHMSA published a document in the Federal Register of March 30, 2020, announcing a meeting of the Lithium Battery Air Safety Advisory Committee. The document indicated that the meeting would be held at DOT Headquarters in Washington, DC, but it will now be hosted virtually with no in-person meeting being conducted.

FOR FURTHER INFORMATION CONTACT: Steven Webb or Aaron Wiener, PHMSA, U.S. Department of Transportation. Telephone: (202)-366-8553. Email: lithiumbatteryFACA@dot.gov. Any committee related request should be sent to the person listed in this section.

SUPPLEMENTARY INFORMATION:

Correction

In the Federal Register of March 30, 2020, in FR Doc. 2020-06492, on page 17615, in the first column, correct the ADDRESSES caption to read:

ADDRESSES: The meeting will be hosted virtually and will be open to the public. The meeting will also be recorded and archived. Information for accessing the virtual meeting will be posted on the Committee website. The Lithium Battery Air Safety Advisory Committee website is located at: https://www.phmsa.dot.gov/hazmat/rulemakings/lithium-battery-safety-advisory-committee. The E-Gov website is located at https://www.regulations.gov. Mailed written comments intended for the Committee should be sent to Docket Management Facility; U.S. Department of Transportation (DOT), 1200 New Jersey Avenue SE, West Building, Room W12-140, Washington, DC 20590-0001. Hand delivered written comments should be delivered to the DOT dockets facility located in Room W12-140 on the ground level of the DOT West Building, 1200 New Jersey Avenue SE, Washington, DC 20590-0001.

William Quade,
Deputy Associate Administrator Hazardous Materials Safety, Pipeline and Hazardous Materials Safety Administration.

[FR Doc. 2020-16368 Filed 7-28-20; 8:45 am]

BILLING CODE 4910-9X-P